COMMISSION ON CIVIL RIGHTS

Notice of Public Meeting of the Guam Advisory Committee; Cancellation

AGENCY: Commission on Civil Rights.

ACTION: Notice; cancellation of business meeting.

SUMMARY: The Commission on Civil Rights published a notice in the Federal Register concerning an in-person meeting of the Guam Advisory Committee. This meeting, scheduled for Friday, June 2, 2023, at 9:00 a.m. ChST, has been cancelled due to Typhoon Mawar. The notice is in the Federal Register of Thursday, May 11, 2023, in FR Document Number 2023-10088, in the first and second columns of page 30276.

FOR FURTHER INFORMATION CONTACT: Liliana Schiller, Support Services Specialist, at lschiller@usccr.gov or (312) 353-8311.

Dated: May 30, 2023.
David Mussatt,
Supervisory Chief, Regional Programs Unit.

[FR Doc. 2023-11831 Filed 6-9-23; 8:45 am]

BILLING CODE P